DEPARTMENT OF ENERGY

Federal Energy Regulatory Commission

[Docket No. CP10-45-000]

Tennessee Gas Pipeline Company; Notice of Request Under Blanket Authorization

January 26, 2010.

Take notice that on January 25, 2010, Tennessee Gas Pipeline Company (Tennessee), 1001 Louisiana Street, Houston, Texas 77002, filed in Docket No. CP10-45-000, a prior notice request pursuant to sections 157.205 and 157.216 of the Commission's regulations under the Natural Gas Act (NGA) for authority to abandon in place an inactive offshore supply lateral (Line 509A-3600) and associated meter and appurtenances located in West Cameron Blocks 617 and 630 of the offshore continental shelf, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Tennessee proposes to abandon in place Line 509A-3600 and appurtenances. Tennessee states that Line 509A-3600 extends for approximately 4.26 miles from a subsea tie-in with Tennessee's Line 509A-3500 in West Cameron Block 617 to a production platform owned and operated by Maritech Resources, Inc. (Maritech), located in West Cameron Block 630. Tennessee avers that the subject facilities have been out of service since the downstream pipelines were damaged by Hurricane Ike in September 2008. Additionally, Tennessee asserts that Maritech has notified Tennessee that it intends to abandon its platform in 2010. Tennessee states that it has not provided transportation service to any shippers through Line 509A-3600 for more than twelve months and no firm contracts are tied to the receipt meter located on the Maritech platform. Tennessee asserts that the estimated cost to construct similar facilities today is approximately $17.8 million.

Any questions regarding the application should be directed to Susan T. Halbach, Senior Counsel, Tennessee Gas Pipeline Company, 1001 Louisiana Street, Houston, Texas 77002, at (713) 420-5751 or (713) 420-1601 (facsimile) or Debbie Kalisek, Analyst, Certificates & Regulatory Compliance, at (713) 420-3292 or (713) 420-1605 (facsimile).

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. 2010-2104 Filed 2-1-10; 8:45 am]

BILLING CODE 6717-01-P